DEPARTMENT OF THE INTERIOR

Fish and Wildlife Service

50 CFR Part 17

RIN 1018-AF31

Endangered and Threatened Wildlife and Plants; Reopening of Comment Period on Proposed Threatened Status for the Plant Yermo xanthocephalus

AGENCY: Fish and Wildlife Service, Interior.

ACTION: Proposed rule; notice of reopening of comment period.

SUMMARY: We, the Fish and Wildlife Service (Service), pursuant to the Endangered Species Act of 1973, as amended (Act), reopen the comment period on the proposal to list the plant Yermo xanthocephalus (Desert yellowhead) as a threatened species. The comment period is extended to accommodate the public notice requirement of the Act and to consider any new scientific information. In addition, reopening of the comment period will allow further opportunity for all interested parties to submit comments on the proposal, which was published on December 22, 1998, and allow for comments on the draft conservation agreement, assessment, and strategy (draft agreement) submitted by the Bureau of Land Management for our consideration when making this listing decision. We are seeking comments or suggestions from the public, other concerned governmental agencies, the scientific community, industry, or any other interested parties concerning the proposed rule and the draft agreement as it affects the Service's listing decision. Comments already submitted on the proposed rule need not be resubmitted as they will be fully considered in the final determination.

DATES: The reopened comment period closes October 5, 2000.

ADDRESSES: Copies of the proposed rule are available on the World Wide Web at <mountain-prairie.fws.gov/endspp/plants/>. You also may request copies from, and submit comments and materials concerning this proposed rule to, the Field Supervisor, U.S. Fish and Wildlife Service, 4000 Airport Parkway, Cheyenne, Wyoming 82001. Copies of the draft agreement may also be obtained from the above address. Comments and materials received will be available for public inspection, by appointment, during normal business hours at the above address.

FOR FURTHER INFORMATION CONTACT: Mike Long, Field Supervisor, Wyoming Field Office (see ADDRESSES section), telephone 307/772-2374; facsimile 307/772-2358.

SUPPLEMENTARY INFORMATION:

Background

On December 22, 1998, we published a rule proposing threatened status for Yermo xanthocephalus in the Federal Register (63 FR 70745). The original comment period closed on February 22, 1999. Section 4(b)(5)(D) of the Act (16 U.S.C. 1531 et seq.) requires us to “publish a summary of the proposed regulation in a newspaper of general circulation in each area of the United States in which the species is believed to occur.” Due to an oversight, we failed to complete this requirement. To correct the oversight, we are reopening the comment period for this proposal to list Y. xanthocephalus and publishing the required notices. Additionally, the Bureau of Land Management has asked us to consider its March 2000 draft agreement, regarding Y. xanthocephalus prior to making the final listing decision. The reopened comment period will allow for comments regarding the draft agreement as it affects the Service's listing decision. The comment period now closes on October 5, 2000. Written comments should be submitted to the Service (see ADDRESSES section).

Yermo xanthocephalus is a recently described Wyoming endemic known only from the south end of Cedar Rim on the summit of Beaver Rim in southern Fremont County. It is a tap-rooted, hairless perennial herb with leafy stems up to 30 centimeters high (12 inches). Y. xanthocephalus is restricted to shallow deflation hollows in outcrops of Miocene sandstones of the Split Rock Formation. It is known from a single population occupying an area of less than 2 hectares (5 acres) of suitable habitat. In 1998 this population contained an estimated 15,000 plants and existed entirely on Federal lands. Surface disturbances associated with oil and gas development, compaction by vehicles, trampling by livestock , and randomly occurring catastrophic events threaten the existing population.

Comments from the public regarding the accuracy of this proposed rule are sought, especially regarding:

(1) Biological, commercial trade, or other relevant data concerning any threat (or lack thereof) to this species;

(2) The location of any additional populations of this species and the reasons why any habitat should or should not be determined to be critical habitat pursuant to section 4 of the Act;

(3) Additional information concerning the range, distribution, and population size or trend of this species;

(4) Current or planned activities in the subject area and their possible impacts on this species;

(5) Biological or physical elements that best describe Yermo xanthocephalus habitat that could be essential for the conservation of the species;

(6) Possible alternative noxious weed control, grazing, and oil and gas development practices that will reduce or eliminate impacts to Yermo xanthocephalus;

(7) Other management strategies that will conserve the species throughout its range; and

(8) The adequacy of the Bureau of Land Management's draft conservation agreement as it affects threats to the species.

Comments previously submitted during the first comment period need not be resubmitted, as they will be fully considered in the final determination.

Author

The primary author of this document is Mary Jennings of the Wyoming Field Office (see ADDRESSES section).

Authority

The authority for this action is the Endangered Species Act of 1973 (16 U.S.C. 1531 et seq.).

Dated: August 21, 2000.
Jamie Rappaport Clark,
Director, Fish and Wildlife Service.

[FR Doc. 00-22555 Filed 9-1-00; 8:45 am]

BILLING CODE 4310-55-U